DEPARTMENT OF DEFENSE

Department of the Air Force

HQ USAF Scientific Advisory Board

AGENCY: Department of the Air Force, DoD.

ACTION: Notice of meeting.

SUMMARY: Pursuant to Public Law 92-463, notice is hereby given of the forthcoming meeting of the Predictive Battlespace Awareness (PBA) Study Information Integration and Prediction/ Confirmation Tools Panels. The purpose of the meeting is to allow the SAB and study leadership to gather information from JWAC related to PBA information integration and prediction/confirmation tools. Because of meeting classification level, this meeting will be closed to the public.

Dates: 2 May 2002, 1200-1600L.

ADDRESSES: JWAC, 1838 Frontage Road, Dahlgren VA 22448.

FOR FURTHER INFORMATION CONTACT: Colonel Marian Alexander, Air Force Scientific Advisory Board Secretariat, 1180 AirForce Pentagon, Rm 5D982, Washington DC 20330-1180, (703) 697-4811.

Pamela D. Fitzgerald,
Air Force Federal Register Liaison Officer.

[FR Doc. 02-10825 Filed 5-1-02; 8:45 am]

BILLING CODE 5001-05-P